DEPARTMENT OF TRANSPORTATION

Federal Highway Administration

Environmental Impact Statement; Cobb, Fulton, and DeKalb Counties, Georgia

AGENCY: Federal Highway Administration (FHWA), DOT.

ACTION: Notice of Intent.

SUMMARY: The FHWA is issuing this notice to advise the public that an Environmental Impact Statement (EIS) will be prepared for a proposed combined highway and transit project on I-285 in Cobb, Fulton, and DeKalb Counties, Georgia.

FOR FURTHER INFORMATION CONTACT: Mr. Wayne Fedora, P.E., Urban Transportation Engineer, FHWA, 61 Forsyth Street, SW., Suite 17T100, Atlanta, Georgia 30303, Telephone: (404) 562-3651; Mrs. Myra R. Immings, Community Planner, Federal Transit Administration, 61 Forsyth Street, SW., Suite 17T50, Atlanta, Georgia 30303, Telephone (404) 562-3508; Mr. Harvey Keepler, State Environmental/Location Engineer, Georgia Department of Transportation, 3993 Aviation Circle, Atlanta, Georgia 30336, Telephone: (404) 699-4401; or Mr. Marvin Woodward, Director of Projects and Planning, Georgia Regional Transportation Authority, 245 Peachtree Center Avenue, NE., Suite 900, Atlanta, Georgia 30303, Telephone: (404) 463-3099.

SUPPLEMENTARY INFORMATION: The FHWA, in cooperation with the Federal Transit Administration (FTA), Georgia Department of Transportation, and the Georgia Regional Transportation Authority, will prepare an EIS on a combined highway and transit proposal along I-285 from I-75 in Cobb County to I-85 in DeKalb County, a length of approximately 17 miles. Alternatives under consideration include (1) No Action or No-Build, (2) transportation systems management (TSM), (3) using alternate modes, and (4) various highway and transit build alternatives including high occupancy vehicle (HOV) lanes, bus rapid transit (BRT), truck only lanes, auxiliary lanes, collector-distributor lanes, and interchange improvements along I-285, as well as various improvements on adjacent and intersecting routes along the corridor.

Letters describing the proposed action and soliciting comments will be sent to appropriate Federal, State, and local agencies and to private organizations and citizens who have previously expressed or are known to have interest in this proposal. A series of public meetings and a public hearing will be held. The Draft EIS will be available for public and agencies review and comments prior to the public hearing. To ensure that the full range of issues related to this proposed project is addressed and all significant issues are identified, formal scoping will be initiated. In addition, we invite all interested parties to submit comments and suggestions. Comments or questions concerning this proposed action should be directed to the FHWA at the address provided above.

(Catalog of Federal Domestic Assistance Program Number 20.205, Highway Research, Planning and Construction. The regulations implementing Executive Order 12372 regarding intergovernmental consultation on Federal programs and activities apply to this program. Georgia's approved clearinghouse review procedures apply to this program.)

Issued On: June 29, 2006.
Ghasson Shanine,
Transportation Administrator, FHWA, Atlanta, Georgia.

[FR Doc. 06-5974 Filed 7-3-06; 8:45 am]

BILLING CODE 4910-22-M